DEPARTMENT OF COMMERCE

National Oceanic and Atmospheric Administration

50 CFR Part 648

[Docket No. 0102208032-110902-02; I.D. 072301E]

Fisheries of the Northeastern United States; Atlantic Bluefish Fishery; Commercial Quota Transfer and Fishery Reopening

AGENCY: National Marine Fisheries Service (NMFS), National Oceanic and Atmospheric Administration (NOAA), Commerce.

ACTION: Commercial quota transfer; fishery reopening.

SUMMARY: NMFS announces that the State of Maryland, the Commonwealth of Virginia, and the State of Florida have transferred a total of 700,000 lb (317,515 kg) of commercial bluefish quota to the State of North Carolina from their respective 2001 quotas. NMFS has adjusted the quotas and announces the revised commercial quotas of Atlantic bluefish for each state involved and the reopening of the commercial Atlantic bluefish fishery in North Carolina. This action is permitted under the regulations implementing the Fishery Management Plan for the Bluefish Fishery (FMP) and is intended to reduce discards and economic impacts in the North Carolina commercial bluefish fishery.

DATES: Effective August 2, 2001 through December 31, 2001.

FOR FURTHER INFORMATION CONTACT: Allison Ferreira, Fishery Management Specialist, (978) 281-9103, fax (978) 281-9135, e-mail Allison.Ferreira@noaa.gov.

SUPPLEMENTARY INFORMATION: Regulations governing the Atlantic bluefish fishery are found at 50 CFR part 648. The regulations require annual specification of a commercial quota that is apportioned among the coastal states from Maine through Florida. The process to set the annual commercial quota and the percent allocated to each state are described in § 648.160.

The initial total commercial quota for bluefish for the 2001 calendar year was set equal to 9,583,010 lb (4,348,008 kg) (66 FR 23625, May 9, 2001). The resulting quota for North Carolina was 3,072,386 lb (1,394,005 kg), for Maryland was 287,662 (130,518 kg), for Virginia was 1,138,412 lb (516,521 kg), and for Florida was 964,021 lb (437,396 kg). The commercial quota for North Carolina was attained and the fishery closed on May 15, 2001 (66 FR 27043).

The final rule implementing Amendment 1 to the FMP was published on July 26, 2000 (65 FR 45844), and allows two or more states, under mutual agreement and with the concurrence of the Administrator, Northeast Region, NMFS (Regional Administrator), to transfer or combine part or all of their annual commercial quota. The Regional Administrator must consider the criteria set forth in § 648.160 (f)(1) in the evaluation of requests for quota transfers or combinations.

Maryland, Virginia, and Florida have agreed to transfer 100,000 lb (45,359 kg), 300,000 lb (136,116 kg), and 300,000 lb (136,116 kg) of their respective 2001 commercial quotas to North Carolina. The Regional Administrator has determined that the criteria set forth in § 648.160(f)(1) have been met, and publishes this notification of quota transfer. The revised quotas for the calendar year 2001 are: Maryland, 187,662 lb (85,122 kg); Virginia, 838,412 lb (380,405 kg); Florida, 664,021 (301,195 kg); and North Carolina, 3,772,386 lb (1,711,126 kg). NMFS also announces the reopening of the commercial bluefish fishery in North Carolina.

This action does not alter any of the conclusions reached in the environmental impact statement prepared for Amendment 1 to the FMP regarding the effects of bluefish fishing activity on the human environment. Amendment 1 established procedures for setting an annual coastwide commercial quota for bluefish and a formula for determining the commercial quota for each state. Amendment 1 also established the quota transfer provision. This is a routine administrative action that reallocates commercial quota within the scope of previously published environmental analyses.

Classification

This action is taken under 50 CFR part 648 and is exempt from review under Executive Order 12866.

Authority: 16 U.S.C. 1801 et seq.

Dated: August 1, 2001.
Bruce C. Morehead,
Acting Director, Office of Sustainable Fisheries, National Marine Fisheries Service.

[FR Doc. 01-19770 Filed 8-2-01; 4:29 pm]

BILLING CODE 3510-22-S